DEPARTMENT OF LABOR

Employment and Training Administration

[TA-W-38,621]

OEM/Erie Westland L.L.C.; Notice of Termination of Investigation

Pursuant to section 221 of the Trade Act of 1974, an investigation was initiated on February 5, 2001, in response to a worker petition which was filed on behalf of workers at OEM/Erie Westland L.L.C., Westland, Michigan.

This case is being terminated because the Department was unable to locate an official of the company to obtain the information necessary to conduct the investigation. Consequently, further investigation in this case would serve no purpose, and the investigation has been terminated.

Signed at Washington, DC, this 31st day of May, 2001.
Linda G. Poole,
Certifying Officer, Division of Trade Adjustment Assistance.

[FR Doc. 01-15041 Filed 6-13-01; 8:45 am]

BILLING CODE 4510-30-M